DEPARTMENT OF HEALTH AND HUMAN SERVICES

Administration for Children and Families

[CFDA NUMBER: 93.568]

Reallotment of Fiscal Year 2018 Funds for the Low Income Home Energy Assistance Program (LIHEAP)

AGENCY: Division of Energy Assistance, Office of Community Services (OCS), Administration for Children and Families (ACF), Department of Health and Human Services (HHS).

ACTION: Notice of public comment.

SUMMARY: Notice is hereby given of a preliminary determination that funds from the fiscal year (FY) 2018 Low Income Home Energy Assistance Program (LIHEAP) are available for reallotment to States, Territories, Tribes, and Tribal Organizations that received FY 2019 direct LIHEAP grants. No subgrantees or other entities may apply for these funds.

DATES: Submit comments on or before September 26, 2019.

ADDRESSES: Comments may be submitted to: Clarence H. Carter, Acting Director, Office of Community Services, Administration for Children and Families, Department of Health and Human Services, 330 C Street SW, 5th Floor; Mail Room 5425; Washington, DC 20201 or via email: Clarence.Carter@acf.hhs.gov. Comments may also be faxed to (202) 401-5661.

FOR FURTHER INFORMATION CONTACT: Lauren Christopher, Director, Division of Energy Assistance, Office of Community Services, Administration for Children and Families, Department of Health and Human Services, 330 C Street SW, 5th Floor; Mail Room 5425; Washington, DC 20201. Telephone: (202) 401-4870. Email: lauren.christopher@acf.hhs.gov.

SUPPLEMENTARY INFORMATION: According to Section 2607(b)(1) of the Low Income Home Energy Assistance Act, (42 U.S.C. 8626(b)(1)), if the Secretary of HHS determines as of September 1, of any fiscal year, an amount in excess of 10 percent of the amount awarded to a grantee for that fiscal year (excluding Leveraging and REACH funds) will not be used by the grantee during that fiscal year, then the Secretary must notify the grantee and publish a notice in the Federal Register that such funds may be reallotted to LIHEAP grantees during the following fiscal year. If reallotted, the LIHEAP block grant allocation formula will be used to distribute the funds. No funds may be allotted to entities that are not direct LIHEAP grantees during FY 2019.

It has been determined that $1,839,128 in LIHEAP funds may be available for reallotment during FY 2019. This determination is based on FY 2018 Carryover and Reallotment Reports which showed that seven grantees reported reallotment funds. These grantees were Alaska; Five Sandoval Indian Pueblos, INC.; Hoh Indian Tribe; Little River Band of Ottawa Indians; Northern Cheyenne Tribe; Three Affiliated Tribes; and Turtle Mountain Band of Chippewa Indians. Grantees submitted the FY 2018 Carryover and Reallotment Reports to the OCS, as required by regulations applicable to LIHEAP at 45 CFR 96.81(b).

The LIHEAP statute allows grantees who have funds unobligated at the end of the federal fiscal year for which they are awarded to request that they be allowed to carry over up to 10 percent of their full-year allotments to the next federal fiscal year. Funds in excess of this amount must be returned to HHS and are subject to reallotment under section 2607(b)(1) of the Low Income Home Energy Assistance Act, (42 U.S.C. 8626(b)(1)). The amount described in this notice was reported by grantees as unobligated FY 2018 funds in excess of the amount that these grantees could carry over to FY 2019.

In accordance with section 2607(b)(3) of the Act (42 U.S.C. 8626(b)(3)), comments will be accepted for a period of 30 days from the date of publication of this notice.

After considering any comments submitted, all current LIHEAP grantees will be notified of the final reallotment amount redistributed to them for obligation in FY 2019. This decision will be published in the Federal Register and in a Dear Colleague Letter that gets posted to ACF's website: https://www.acf.hhs.gov/ocs/resource/dear-colleagues.

If funds are reallotted, they will be allocated in accordance with section 2604 of the Act (42 U.S.C. 8623) and must be treated by LIHEAP grantees receiving them as an amount appropriated for FY 2019. As FY 2019 funds, they will be subject to all requirements of the Act, including section 2607(b)(2) (42 U.S.C. 8626(b)(2)), which requires that a grantee obligate at least 90 percent of its total block grant allocation for a fiscal year by the end of the fiscal year for which the funds are appropriated, that is, by September 30, 2019.

Estimated Reallotment Amounts of FY 2018 LIHEAP Funds
Grantee name | Reallotment amount
Alaska | $1,579,924
Five Sandoval Indian Pueblos, INC | 16,089
Hoh Indian Tribe | 4,378
Little River Band of Ottawa Indians | 47,440
Northern Cheyenne Tribe | 45,607
Three Affiliated Tribes | 140,582
Turtle Mountain Band of Chippewa Indians | 5,108
Total | $1,839,128

Statutory Authority: 42 U.S.C. 8626.

Elizabeth Leo,
Senior Grants Policy Specialist, Division of Grants Policy, Office of Administration.

[FR Doc. 2019-18374 Filed 8-26-19; 8:45 am]

BILLING CODE 4184-80-P